TENNESSEE VALLEY AUTHORITY

Notice of Sunshine Act Meeting

December 10, 2012.

Meeting No. 12-05

The TVA Board of Directors will hold a specially called public meeting on December 10, 2012, in the TVA West Tower Auditorium, 400 West Summit Hill Drive, Knoxville, Tennessee, to consider the agenda items listed below. A number of the TVA Board of Directors will join the meeting by teleconference. The meeting will begin at 9:30 a.m. (ET). No public listening session is scheduled.

STATUS: Open.

Agenda

Chairman's Welcome.

New Business

1. Arrangements for Non-Quorum Board of Directors.

2. Application of Real Time Energy Rate for a Specific Economic Development Customer.

FOR MORE INFORMATION: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: December 3, 2012.
Ralph E. Rodgers,
General Counsel and Secretary.

[FR Doc. 2012-29586 Filed 12-4-12; 11:15 am]

BILLING CODE 8120-08-P